DEPARTMENT OF THE INTERIOR

Bureau of Indian Affairs

Advisory Board for Exceptional Children

AGENCY: Bureau of Indian Affairs, Interior.

ACTION: Notice of meeting.

SUMMARY: The Bureau of Indian Education (BIE) is announcing that the Advisory Board for Exceptional Children (Advisory Board) will hold its next meeting in Riverside, California. The purpose of the meeting is to meet the mandates of the Individuals with Disabilities Education Act of 2004 (IDEA) for Indian children with disabilities.

DATES: The Advisory Board will meet on Thursday, May 5, 2011, from 8 a.m. to 4 p.m. and Friday, May 6, 2011, from 8 a.m. to 4 p.m. Pacific Standard Time.

ADDRESSES: The meeting will be held at the Sherman Indian High School, 9010 Magnolia Avenue, Riverside, California 92503; telephone number (951) 276-6325.

FOR FURTHER INFORMATION CONTACT: Sue Bement, Designated Federal Official, Bureau of Indian Education, Albuquerque Service Center, Division of Performance and Accountability, 1011 Indian School Road, NW., Suite 332, Albuquerque, NM 87104; telephone number (505) 563-5274.

SUPPLEMENTARY INFORMATION: In accordance with the Federal Advisory Committee Act, the BIE is announcing that the Advisory Board will hold its next meeting in Riverside, California. The Advisory Board was established under the IDEA (20 U.S.C. 1400 et seq.) to advise the Secretary of the Interior, through the Assistant Secretary—Indian Affairs, on the needs of Indian children with disabilities. The meetings are open to the public.

The following items will be on the agenda:

• Report from Gloria Yepa, Supervisory Education Specialist, BIE, Division of Performance and Accountability.

• Report from BIE Director's Office.

• Report from Dr. Jeffrey Hamley, Associate Deputy Director, BIE.

• Advisory Board work on priorities.

• Native American Student Information System (NASIS) Update.

• Native Star Update—Gaye Leia King.

• Public Comment (via conference call, May 5, 2011, meeting only*).

• Panel discussion with Special Education faculty from Sherman Indian School, Riverside, California.

• BIE Advisory Board—Advice and Recommendations.

*During the May 5, 2011, meeting, time has been set aside for public comment via conference call from 11:30 a.m.-12 p.m. Pacific Standard Time. The call-in information is: Conference Number 1-888-417-0376, Passcode 1509140.

Dated: March 21, 2011.
Donald Laverdure,
Principal Deputy Assistant Secretary—Indian Affairs.

[FR Doc. 2011-7582 Filed 3-30-11; 8:45 am]

BILLING CODE 4310-6W-P